NATIONAL SCIENCE FOUNDATION

Notice of Intent To Prepare a Programmatic Environmental Impact Statement for the National Science Foundation To Address Potential Impacts on the Marine Environment Related to the United States Implementing Organization's Participation in the Integrated Ocean Drilling Program

AGENCY: National Science Foundation.

ACTION: Notice.

SUMMARY: The National Science Foundation (NSF) announces its intent to prepare a Programmatic Environmental Impact Statement (EIS) to evaluate the potential environmental impacts associated with the NSF funding of the United States Implementing Organization's (USIO) participation in the Integrated Ocean Drilling Program (IODP). This EIS is being prepared and considered in accordance with requirements of the National Environmental Policy Act (NEPA) of 1969, regulations of the President's Council on Environmental Quality (40 CFR parts 1500 through 1508), and NSF's National Environmental Policy Act Implementing Procedures (45 CFR 640.1-640.5). The National Marine Fisheries Service (NMFS), a part of the National Oceanic and Atmospheric Administration (NOAA), is being invited to be a cooperating agency in the preparation of the Programmatic EIS.

Publication of this notice begins the official scoping process that will help identify alternatives and determine the scope of environmental issues to be addressed in the Programmatic EIS/OEIS. This notice requests public participation in the scoping process and provides information on how to participate.

Addresses and Dates

The public scoping period starts with the publication of this Notice in the Federal Register and will continue until March 6, 2006. NSF will consider all comments received or postmarked by that date in defining the scope of this EIS. Comments received or postmarked after that date will be considered to the extent practicable. Public scoping meetings will provide the public with an opportunity to present comments, ask questions, and discuss concerns regarding the EIS with NSF officials. The locations, dates, and times for the public scoping meetings are as follows:

1. Wednesday, February 15, 5-9 p.m., 100 Vaughn Hall, Discovery Way, Scripps Institution of Oceanography, La Jolla, CA;

2. Friday, February 17, 2006, 5-9 p.m., Room C126, 1000 Discovery Drive, Texas A&M University, College Station, TX; and

3. Thursday, February 23, 2006, 2:30-6:30 p.m., Silver Spring Metro Center Building 4, Science Center, 1301 East-West Highway, Silver Spring, MD.

Written comments will be accepted at these meetings as well as during the scoping period, and can be mailed to NSF by March 6, 2006.

FOR FURTHER INFORMATION CONTACT: Written statements and questions regarding the scoping process should be mailed to Dr. James Allan, Program Director, Ocean Drilling Program, Division of Ocean Sciences, National Science Foundation, 4201 Wilson Boulevard, Suite 725, Arlington, VA 22230; voice (703) 292-8581 or e-mail at jallan@nsf.gov.

SUPPLEMENTARY INFORMATION: In 1975, the National Science Foundation (NSF) prepared an Environmental Impact Statement (EIS) on the International Phase of Ocean Drilling (IPOD) of the Deep Sea Drilling Project (DSDP). The 1975 EIS addressed scientific ocean drilling carried out globally in major and minor ocean basins.

In 1985, the NSF prepared an EIS for the new Ocean Drilling Program (ODP) to address the more complicated aspects of proposed drilling techniques and of drilling in high latitudes and Antarctic seas that were not previously addressed in the DSDP/IPOD EIS. Drilling modes that were analyzed in the DSDP/IPOD EIS were reviewed in the 1985 EIS including the use of the research vessel (RV) JOIDES Resolution. Additionally, aspects of drilling in deep-ocean trenches, on active spreading centers, and in or near environmentally sensitive regions were considered in the 1985 environmental review. Drilling in both DSDP/IPOD and ODP was riserless, where drill cuttings were typically removed from the borehole by pumped seawater without return circulation to the drillship via an external pipe or riser.

The ODP was formally completed September 30, 2003. In order to facilitate the seamless continuation of research during the transition from the ODP to the Integrated Ocean Drilling Program (IODP), the JOIDES Resolution was selected as the platform to continue to conduct riserless drilling activities during Phase 1 of the USIO participation in the IODP. Environmental Assessments (EAs) were prepared in 2004 and 2005 to supplement the 1985 EIS and address the environmental and operating conditions that were specific to the IODP-USIO Phase 1 expeditions that would be performed during 2004 and 2005.

The IODP is an international research program that explores the history and structure of the earth as recorded in seafloor sediments, fluids, and rocks. IODP builds upon the earlier successes of the DSDP and the ODP, which revolutionized our view of Earth history and global processes through ocean basin exploration. IODP represents the latest generation of these highly successful scientific ocean-drilling initiatives and seeks to greatly expand the reach of these previous programs by forming a collaborative union between the United States, Japan, and the European Union, each of whom will be responsible for providing drilling platforms appropriate for achieving the scientific objectives outlines in the IODP Initial Science Plan. China has joined as an additional member. Based on international agreements, the United States is responsible for providing and operating a riserless drilling vessel, Japan will provide and operate a riser drilling vessel, and a European-led consortium will provide and operate Mission Specific Platforms capable of drilling in environments unsuitable for either the riserless or riser vessels.

Joint Oceanographic Institutions, Incorporated (JOI) and its partners, the Lamont-Doherty Earth Observatory of Columbia University (LDEO) and Texas A&M University (TAMU) through the Texas A&M Research Foundation (TAMRF), have been selected by NSF to be the IODP USIO for the riserless vessel and related activities. These three partners comprise the JOI Alliance. JOI is responsible to NSF for the overall program leadership, technical, operational, and financial management, and delivery of services. TAMU is responsible for providing a full array of science services, ranging from vessel and drilling operations to ship- and shore-based science laboratories, core repositories, and publication. LDEO is responsible for logging-related shipboard and shore-based science services and for leading an international logging consortium to participate in scientific ocean drilling operations. The objectives of the USIO are to provide leadership regarding the U.S. interests in IODP as the challenges and demands of a multiplatform drilling program present themselves. The USIO also seeks to ensure that services for the riserless vessel and other program aspects are provided in a cost-effective, holistic, and responsive manner to facilitate comprehensive, integrated, and flexible management that involves a broad array of stakeholders.

Currently, the JOI Alliance is completing IODP Phase 1 operations using the RV JOIDES Resolution, which is the same vessel used for two decades during ODP (1985-2003). Concurrent with Phase 1 activities (2003-2006), the JOI Alliance is planning for Phase 2 operations, which require procuring and converting an appropriate ship into a Scientific Ocean Drilling Vessel (SODV). This Programmatic EIS will address the use of the SODV and the USIO's participation in IODP Phase 2 riserless drilling operations for at least the next 20 years.

Depending upon the specific research objectives of each IODP USIO Phase 2 expedition, typical aspects of the proposed action that have the potential to affect the surrounding environment and will be subject to review in the proposed Programmatic EIS include:

Site Selection and Expedition Planning

• Review and evaluate research proposals (multi-phase, international process).

• Logistically prepare for expedition and schedule.

Vessel Deployment and Maximum Days at Sea per Expedition

• Transit from port call to expedition site; may require days or weeks of travel at a nominal speed of 10 knots (depending on sea conditions).

• Remain at sea for 60 days.

Number of Drill Sites and Boreholes

• One or more drill sites may be selected in a specific area for each expedition as needed to meet research objectives.

• One or more boreholes may be advanced at each drill site as needed to meet specific objectives.

Typical Extent of Operations

• Water Depth (m) 75-7,000.

• Seafloor Penetration (m) 1-2,500.

Drilling and Casing Deployment

• Depending upon the specific application, drill bits will be advanced into the seafloor to produce nominally-sized boreholdes 37.5, 44.5, 50.8, or 61 cm (14⅝, 17⅜, 20, 24 in) in diameter (alternate sized boreholes may be drilled as needed).

• Depending on the specific application, boreholes may be lined with 27.3, 34, 40, and 50.8 cm (10⅝, 13⅜, 16, 20 in) casings (alternate size casting may be installed as needed).

Core Sampling

• Advanced Piston Corer (APC): used in soft ooze and sediments.

• Rotary Core Barrel (RCB): used in medium to hard crystalline sediments.

• Sonic Core Monitor (SCM).

• Extended Core Barrel (XCB): used in firm sediments.

• Advanced Diamond Core Barrel (ADCB): used in hard sedimentary or igneous formations.

• Motor Driven Core Barrel (MDCB): Used in interbedded materials and hard fractured rock.

• Pressure Core Sample (PCS): used in sediments while maintaining in situ pressure.

• Botton-Hole Assembly (BHA).

• Tricone Retractable Bit (TRB).

• Other coring and sampling capability as developed.

Deployment of Reentry Hardware and Observatories

• Drill-In-Casing (DIC) System: used to drill in a short casing string simultaneously with the bit to support an unstable sediment zone.

• Free Fall Funnel (FFF): used to reenter a hole.

• Hard Rock Base (HRB): Used to focus the direction of the drill bit into hard irregular seafloor surfaces.

• Hard Rock Reentry System (HRRS): used to install casing with reentry capability on a sloping or rough hard rock seafloor.

• Reentry Cone and Casing (RECC): used as a permanent seafloor installation (or legacy hole) able to support nested casing strings.

• Database query of sites with reentry cones.

• Underreamers, Bi-Center Reamers, and Mud Motors.

• Vibration Isolated Television Frame (VIT).

• Circulation Obviation Retrofit Kit (CORK) Borehole Observatory.

• Advanced CORK (ACORK) Borehole Observatory.

In Situ Sampling and Testing

• Temperature, pore pressure, gas and fluid compositions, permeability, microbial with instruments such as:

• Advanced Piston Corer Temperature (APCT), used to obtain formation temperatures to determine the heat flow gradient.

• Davis-Villinger Temperature Probe (DVTP), used to take heat-flow measurements in semi consolidated sediments that are too stiff for the APCT.

• Water Sampling Temperature Probe (WSTP).

Downhole Logging

• Natural gamma ray measurement.

• Compressional- and shear-wave sonic velocity (Vp and Vs).

• Caliper to measure borehole rugosity.

• Formation density, porosity, temperature, resistivity and resistivity images, magnetic susceptibility/reversals.

• Borehole camera.

• Borehole seismic tool for check shots or vertical seismic profiles (VSP).

• Fluid sampling.

• Measurement while Drilling (MWD), including Logging While Drilling (LWD, formation resistivity images and density/porosity).

• Geochemical logging (inference of formation chemical composition).

Geophysical Surveying

• Occasional use of geophysical techniques to characterize seafloor.

The Programmatic EIS will address U.S. laws and regulations, as appropriate, including but not necessarily limited to NEPA; the Marine Mammal Protection Act of 1972 (MMPA); the Endangered Species Act of 1973 (ESA); and Executive Order (EO) 12114 (1979), Environmental Effects Abroad of Major Federal Actions. In addition, the assessment will address foreign regulations especially where research will be carried out entirely or partially within territorial waters or Exclusive Economic Zone waters surrounding a foreign nation or in international waters subject to the United Nations Law of the Sea or other international agreements.

The Programmatic EIS will take a view of the planned USIO drilling program as a whole and thereby assemble and analyze the broadest range of direct, indirect, and cumulative impacts associated with the entire program rather than assessing individual cruises separately. This approach will also address possible concerns that NSF is analyzing regarding each expedition's contribution to the cumulative impacts of the entire program. Further, the Programmatic EIS will provide a broad analytical baseline within which NSF, using tiered documents, will be able to analyze and decide upon various cruise-specific issues. This process will enable the NSF to streamline the preparation of subsequent environmental documents for the individual cruises, if needed, and enable NSF to identify any prudent conservation practices and mitigation measures that may be applied across the entire program. The application of the Programmatic EIS to future cruises will be determined during the development of the EIS and will be specified within the EIS.

Major environmental issues that will be addressed in the Programmatic EIS include marine biological resources including Essential Fish Habitat (EFH), acoustic impacts to marine mammals, fish, sea turtles, invertebrates, and threatened and endangered species; releases of any substances from the ship during vessel transit, drilling, and research operations; cultural resources; human health and safety; socioeconomic and land use (i.e., commercial, private, and recreational uses of the marine environment); and water quality.

At present, NSF has identified two alternatives for evaluation in the EIS: (1) The proposed action as described above; and (2) the no action alternative. NSF welcomes discussion on these and other possible alternatives that may be identified during the scoping process. NSF also welcomes discussion on mitigation measures to be considered, separate from features of the proposed action that could avoid or substantially reduce the environmental consequences of the proposed action.

NSF is initiating this scoping process for the purpose of determining the extent of issues to be addressed, identifying the significant issues related to this action, and identifying possible alternatives to the proposed action. NSF will hold public scoping meetings as identified in the Dates and Addresses section of this notice. These meetings will also be advertised in area newspapers. NSF and NMFS representatives will be available at these meetings to receive comments from the public regarding issues of concern to the public. Federal, state, and local agencies and interested individuals are encouraged to take this opportunity to identify environmental concerns that should be addressed during the preparation of the Programmatic EIS. Agencies and the public are also invited and encouraged to provide written comments on scoping issues in addition to, or in lieu of, oral comments at the public meeting. To be most helpful, scoping comments should clearly describe issues or topics that the commenter believes the Programmatic EIS should address.

We invite you to learn about NSF's funding of the USIO's role in the Integrated Ocean Drilling Program at an informational open house, and to assist NSF in defining the alternatives and the scoping environmental issues related to the drilling research program. All our public meeting locations are wheelchair-accessible. If you plan to attend a scoping meeting/open house, and need special assistance such as sign language interpretation or other reasonable accommodation, please notify NSF (see FOR FURTHER INFORMATION CONTACT) at least 3 business days in advance. Include your contact information as well as information about your specific needs.

We request public comments or other relevant information on environmental issues related to the NSF drilling program. The public meetings are not the only opportunity you have to comment. In addition to or in place of attending a meeting, you can submit comments to Dr. James Allan by March 6, 2006 (see FOR FURTHER INFORMATION CONTACT). We will consider all comments received during the comment period. We request that you include in your comments:

• Your name and address (especially if you would like to receive a copy of the Draft Programmatic EIS/OEIS upon completion);

• An explanation for each comment; and

• Include any background materials to support your comments, as you feel necessary.

You may mail, e-mail, or hand deliver your comments to NSF (see FOR FURTHER INFORMATION CONTACT). All comment submissions must be unbound, no larger than 8½ by 11 inches, and suitable for copying and elctronic scanning. Please note that regardless of the method used for submitting comments or material, all submissions will be publicly available and, therefore, any personal information you provide in your comments will be open for public review. In addition, if you wish to receive a copy of the Draft Programmatic EIS/OEIS, please indicate this in your comment. No decision will be made to implement any alternative until the NEPA prcoess is completed.

Dated: January 5, 2006.
James Allan,
Program Director, Ocean Drilling Program, Division of Ocean Sciences, National Science Foundation.

[FR Doc. 06-198 Filed 1-9-06; 8:45 am]

BILLING CODE 7555-01-M